ENVIRONMENTAL PROTECTION AGENCY

[ER-FRL-6651-5]

Agency Information Collection Activities

AGENCY: U.S. Environmental Protection Agency (EPA), Region 6.

Notice of Intent: To prepare an Environmental Impact Statement (EIS) for the proposed reissuance of National Pollutant Discharge Elimination System (NPDES) General Permits (GPs) OKG010000 and NMG010000 for Concentrated Animal Feeding Operations (CAFOs) in Oklahoma and New Mexico, and Indian lands in Oklahoma and New Mexico.

Purpose: To comply with the National Environmental Policy Act of 1969, as amended, (NEPA) and evaluate the potential impacts associated with the proposed reissuance of the NPDES GPs.

SUMMARY: The EPA promulgated effluent limitations guidelines (ELGs) and New Source Performance Standards (NSPS) for CAFOs on February 14, 1974. In 1993, EPA Region 6 issued NPDES GPs for CAFOs in the states of Louisiana, New Mexico, Oklahoma and Texas. EPA Region 6 issued an Environmental Assessment and Finding of No Significant Impact on that action, pursuant to NEPA, and thereafter performed supplemental NEPA review on newly proposed CAFOs submitting notices of intent to be covered by the GPs. Some CAFOs did not apply for coverage under the GPs, and others have been constructed since the GPs expired on March 10, 1998.

EPA promulgated revised CAFO ELGs and NSPS on February 12, 2003. Among other things, the new ELGs apply to facilities that were not covered by the 1974 ELGs, and require all CAFOs to apply for permit coverage. EPA Region 6 now proposes to reissue GPs for the states of Oklahoma and New Mexico, and Indian lands in Oklahoma and New Mexico. All CAFOs that were subject to either the 1974 NSPS or the 2003 NSPS when they commenced construction, meet the new source criteria at 40 CFR 129.29 and are new source facilities for purposes of NEPA review. Given the potentially large number of CAFOs involved, their potential environmental impacts, and anticipated controversy, Region 6 has decided to prepare an EIS on the proposal to reissue the General Permit. The citation to the ELGs is 40 CFR part 412, published at 68 FR 7176, 7629 on February 12, 2003.

Alternatives: EPA may approve or deny the proposed NPDES GP for either or both the state of Oklahoma or New Mexico, or approve with modifications to mitigate or reduce adverse impacts to acceptable levels. Other reasonable alternatives, including those outside EPA's authority, may also be evaluated in the EIS.

Scoping: Scoping meetings will be conducted on June 22, 2004, at 6:30 p.m. at the Metro Tech Business Conference Center, 1900 Springlake Drive in Oklahoma City, Oklahoma, and on June 24, 2004, at 6:30 p.m. in the Doña Ana Room at the Corbett Center, New Mexico State University in Las Cruces, New Mexico, to solicit verbal or written comments regarding concerns and issues that should be addressed in the EIS.

For Scoping Comments, Additional Information, or To Be Placed on the Mailing List for the EIS: Write or call Office of Planning and Coordination, EPA Region 6, 1445 Ross Ave., Dallas, TX 75202; tel: (214) 665-8150.

Responsible Official: Richard E. Greene, Regional Administrator.

Dated: May 13, 2004.
Kimberley DePaul,
Deputy Director of OFA.

[FR Doc. 04-11225 Filed 5-17-04; 8:45 am]

BILLING CODE 6560-50-P